DEPARTMENT OF VETERANS AFFAIRS

Advisory Committee on Women Veterans, Notice of Meeting

The Department of Veterans Affairs (VA) gives notice under the Federal Advisory Committee Act, 5 U.S.C. ch. 10, that the Advisory Committee on Women Veterans will conduct a virtual meeting on December 12-13, 2023. The meeting will begin and ends as follows:

Date | Time | Location
December 12, 2023 | 1:00 p.m.-4:00 p.m. Eastern Standard Time (EST) | WEBEX link and call-in information below.
December 13, 2023 | 12:00 p.m.-3:00 p.m. (EST) | WEBEX link and call-in information below.

The meeting sessions are open to the public.

The purpose of the Committee is to advise the Secretary of Veterans Affairs regarding the needs of women Veterans with respect to health care, rehabilitation, compensation, outreach and other programs and activities administered by VA designed to meet such needs. The Committee makes recommendations to the Secretary regarding such programs and activities.

On Tuesday, December 12, 2023, the agenda includes updates on National Cemetery Administrations and Veterans Benefits Administrations initiatives, the Intimate Partner Violence Assistance Program and Office of Women's Health initiatives.

On Wednesday, December 13, 2023, the agenda includes time allotted for public comment starting at 12:15 p.m. and ending no later than 12:45 p.m. (EST). The comment period may end sooner, if there are no comments presented or they are exhausted before the end time. Individuals interested in providing comments during the meeting are allowed no more than three minutes for their statements. Following the comment period, the committee will receive updates on the Women Veterans Call Center, Veteran homelessness, assault and harassment prevention and Office of Transition and Economic Development initiatives.

Those who want to submit written statements for the Committee's review should submit them to the Center for Women Veterans at 00W@mail.va.gov no later than December 5, 2023. Any member of the public who wishes to participate virtually may use the following access information: (https://veteransaffairs.webex.com/veteransaffairs/j.php?MTID=m8da37e2dd5011b1d36529b042f34608b; meeting number: 2761 190 0779 password: EJdqNuh@324. Join by phone at 14043971596 (USA toll number); Access code: 27611900779).

Dated: November 20, 2023.
Jelessa M. Burney,
Federal Advisory Committee Management Officer.

[FR Doc. 2023-25995 Filed 11-22-23; 8:45 am]

BILLING CODE 8320-01-P